DEPARTMENT OF HEALTH AND HUMAN SERVICES

Centers for Disease Control and Prevention

[60Day-01-39]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Patterns of Eye Movement and Message Processing—NEW—The National Institute for Occupational Safety and Health (NIOSH), Centers for Disease Control and Prevention (CDC). The mission of the National Institute for Occupational Safety and Health is to promote safety and health at work for all people through research and prevention.

NIOSH often develops work-related health and safety messages designed to persuade workers to follow specific work-related habits that reduce the risk of on-the-job injury or disease. Research has shown that the more a reader thinks about a message being read, the more persuasive the message will be in changing the attitude and behavior of the reader. However, assessing how much a reader is actually thinking about a message has been difficult to do in any way beyond simply asking the reader questions about the material. Such self-report methods are limited in that they are imprecise and are vulnerable to measurement error.

The primary purpose of this study by the Institute's Health Effects Laboratory Division, Health Communication Research Branch (HCRB) is to determine if specific patterns of eye movement are related to the amount of thinking a person does while reading persuasive materials. From the eye-tracking literature, certain patterns of eye movement have already been associated with reading conceptually difficult text. It is believed that these identified patterns of eye movement represent more thinking about what is being read. It is predicted that the same patterns of eye-movement found for conceptually difficult text also will be found when participants are reading persuasive materials designed to be more thought provoking, or persuasive. If consistent patterns of eye movement are found to be related to more or less thinking about persuasive materials, then eye-tracking can be further developed as a measure of persuasive message effectiveness. Such a finding would be an improvement over the more commonly employed self-report methods of assessing message effectiveness.

As a secondary consideration, a measure of impulsivity will be included in this study to determine if higher or lower ratings of impulsivity predict if a person will think about a persuasive message. It is predicted that participants higher in impulsivity will be less likely to think as much about a message as participants lower in impulsivity. If this prediction about impulsivity is confirmed in this study, messages could possibly be tailored in ways to improve persuasive effectiveness for readers potentially high in impulsivity. Additionally, a general measure of personality traits also will be administered for the purpose of considering other personality characteristics that may be related to more or less thinking about persuasive materials.

The persuasion theory guiding the first two studies is the Elaboration Likelihood Model (ELM). Each study will involve a manipulation of constructs used in the model, persuasive message relevance (high or low) and argument strength (strong or weak). The high relevance condition is intended to lead to more thinking about the material than the low relevance condition. The strong and weak arguments are a manipulation check to make sure that the high and low relevance manipulation was convincing. Both self-report measures of thinking and measures of eye movement will be obtained from all participants. Analyses will be performed to test the predictions stated above. Analyses also will be performed to determine the relation between impulsivity and personality traits to more or less thinking about the persuasive materials.

The third year will be an application of the results obtained from the first two studies. From the first two studies a template will have been developed that will show how to best design effective occupational safety and health communication materials. This template will be incorporated into other current and future HCRB projects.

The specific goals for this project are as follows: (1) partially replicate an ELM study with the addition of eye movement measures, (2) examine the relation between amount of thinking while reading persuasive materials and eye movement, (3) extend the replicated study and eye movement measure to an occupational safety and health issue, i.e., forklift operation, (4) incorporate the eye movement template into ongoing HCRB projects, and (5) disseminate findings at relevant conferences and in the appropriate professional journals. There are no costs to respondents.

Type of respondents | Number. of respondents | Number. of responses per respondent | Average burden per response (in hours) | Total burden in hours
Morgantown community members | 200 | 1 | 90/60 | 300
Forklift operators | 200 | 1 | 90/60 | 300
Various occupational groups | 400 | 1 | 90/60 | 600
Total | 800 |  |  | 1,200

Dated: May 9, 2001.
Nancy Cheal,
Acting Associate Director for Policy, Planning and Evaluation, Centers for Disease Control and Prevention.

[FR Doc. 01-12372 Filed 5-15-01; 8:45 am]

BILLING CODE 4163-18-P